DEPARTMENT OF LABOR

Employment and Training Administration

[TA-W-36,804]

Key Manufacturing Co., Jasper, AL; Dismissal of Application for Reconsideration

Pursuant to 29 CFR 90.18(C) an application for administrative reconsideration was filed with the Director of the Division of Trade Adjustment Assistance for workers at the Key Manufacturing Co., Jasper, Alabama. The application contained no new substantial information which would bear importantly on the Department's determination. Therefore, dismissal of the application was issued.

TA-W-36,804; Key Manufacturing Co., Jasper, Alabama (January 5, 2000)

Signed at Washington, DC this 23rd day of March, 2000.
Grant D. Beale,
Program Manager, Division of Trade Adjustment Assistance.

[FR Doc. 00-7980 Filed 3-30-00; 8:45 am]

BILLING CODE 4510-30-M